DEPARTMENT OF THE INTERIOR

Bureau of Land Management

[LLAZC01000.L51010000.FX0000.LVRWA09A2310; AZA32315AA]

Notice of Availability of the Record of Decision for the Mohave County Wind Farm Project, Mohave County, AZ

AGENCY: Bureau of Land Management, Interior.

ACTION: Notice of availability.

SUMMARY: The Bureau of Land Management (BLM) announces the availability of the Record of Decision (ROD) for the Mohave County Wind Farm Project (Project). The Acting Assistant Secretary for Land and Minerals Management approved the ROD on June 26, 2013, which constitutes the final decision of the Department of the Interior.

ADDRESSES: Copies of the ROD are available for public inspection at the BLM's Kingman Field Office, 2755 Mission Boulevard, Kingman, AZ 86401, and the BLM Arizona State Office, One North Central Avenue, Suite 800, Phoenix, AZ 85004. Interested parties may also view the ROD at the following Web site: http://www.blm.gov/az/st/en/prog/energy/wind/mohave.html.

FOR FURTHER INFORMATION CONTACT: Jackie Neckels, Environmental Coordinator, BLM Renewable Energy Coordination Office, Arizona State Office, One North Central Avenue, Suite 800, Phoenix, AZ 85004; phone: 602-417-9262; or email: jneckels@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: BP Wind Energy North America, Inc. (BP Wind Energy) proposes to construct, operate, maintain, and eventually decommission the Project, a wind-powered electrical generation facility located approximately 40 miles northwest of the City of Kingman in Mohave County, Arizona. BP Wind Energy applied to the BLM for a right-of-way (ROW) grant and to the Bureau of Reclamation (Reclamation) for a right-of-use (ROU) contract for the Project that would produce up to 500-megawatts (MW) of power. BP Wind Energy also applied to Western Area Power Administration (Western) for interconnection to either the 345-kilovolt (kV) Liberty-Mead transmission line or the 500-kV Mead-Phoenix transmission line that crosses the Project area. Western has applied to the BLM for a ROW grant for construction, operation, and maintenance of a switching station that would allow transmission of electricity generated by the Project.

The approved Project includes up to 243 wind turbine generators and associated infrastructure on approximately 35,329 acres of BLM-managed land and approximately 2,781 acres of Reclamation-administered land. The Project components include, but are not limited to, turbine generators with a power output ranging from 1.5 to 3.0 MW each, pad mounted transformers, access roads, an underground 34.5-kV electrical collection system, distribution line, overhead transmission line, an operation and maintenance building, two temporary laydown/staging areas with concrete batch plant operations, temporary and permanent meteorological towers, switchyard, two substations, water wells, temporary water pipeline, and temporary use of the Detrital Wash materials pit as a material source.

In compliance with the National Environmental Policy Act of 1969, as amended, and Title V of the Federal Land Policy and Management Act of 1976, as amended, the BLM, as lead agency, and Reclamation and Western, as cooperating agencies, prepared the Draft Environmental Impact Statement (EIS) that was published in the Federal Register on April 27, 2012, (77 FR 25165). Subsequently, the agencies held public meetings on the document in the communities of Kingman, Peach Springs, White Hills, and Dolan Springs, Arizona. The Final EIS was published on May 17, 2013, (78 FR 29131). The National Park Service, the Arizona Game and Fish Department, Mohave County, and the Hualapai Tribe were also cooperating agencies.

The No Action Alternative and four action alternatives were analyzed in the Final EIS. The proposed action, Alternative A, called for the use of approximately 38,099 acres of BLM-managed land and 8,960 acres of Reclamation-administered land. Alternative B would require approximately 30,872 acres of BLM-managed land and 3,848 acres of Reclamation-administered land. Alternative C called for the use of 30,178 acres of BLM-managed land and approximately 5,124 acres of Reclamation-administered land. Alternative E would require approximately 35,329 acres of BLM-managed land and 2,781 acres of Reclamation-administered land. Alternative E is BLM's and Reclamation's preferred alternative and represents a combination of Alternatives A and B.

It is the decision of the BLM and Reclamation to approve Alternative E, including associated infrastructure and a switching station, and issue ROW grant and ROU contract, respectively, across Federal lands for the construction, operation, maintenance, and decommissioning of the Project to BP Wind Energy; and for the BLM to issue a ROW grant to Western for the construction, operation, and maintenance of a switching station, subject to terms and conditions of the ROW grants and ROU contract, plan of development, and mitigation measures. Full implementation of this decision is contingent upon BP Wind Energy and Western obtaining all applicable permits and approvals. This decision is based on the information contained in the Draft and Final EIS.

Because this decision is approved by the Acting Assistant Secretary for Land and Minerals Management, it is not subject to administrative appeal (43 CFR 4.5 and 4.410(a)(3)).

Authority: 40 CFR 1506.6.

Jamie Connell,
Acting Deputy Director of Operations, Bureau of Land Management.

[FR Doc. 2013-22575 Filed 9-16-13; 8:45 am]

BILLING CODE 4310-32-P